DEPARTMENT OF JUSTICE

Office of Justice Programs

[OJP (NIJ) Docket No. 1590]

Draft Offender Tracking System Standard

AGENCY: National Institute of Justice.

ACTION: Notice of Draft Offender Tracking System Standard, Selection and Application Guide, and Certification Program Requirements.

SUMMARY: In an effort to obtain comments from interested parties, the U.S. Department of Justice, Office of Justice Programs, National Institute of Justice will make available to the general public three draft documents: (1) A draft standard entitled, “Offender Tracking System Standard” (2) a draft companion document entitled, “Offender Tracking System Certification Program Requirements” and (3) a Selection and Application Guide.

The opportunity to provide comments on these three documents is open to industry technical representatives, criminal justice agencies and organizations, research, development and scientific communities, and all other stakeholders and interested parties. Those individuals wishing to obtain and provide comments on the draft documents under consideration are directed to the following Web site: http://www.justnet.org.

DATES: Comments must be received on or before July 23, 2012.

FOR FURTHER INFORMATION CONTACT: Jack Harne, by telephone at 202-616-2911 or Lisa Bache by telephone at 202-514-9337 [Note: these are not toll-free telephone numbers], or by email at jack.harne@usdoj.gov or by email at lisa.bache@usdoj.gov.

John H. Laub,
Director, National Institute of Justice.

[FR Doc. 2012-13681 Filed 6-5-12; 8:45 am]

BILLING CODE 4410-18-P